DEPARTMENT OF ENERGY

Federal Energy Regulatory Commission

[Docket No. RP03-355-000]

Texas Gas Transmission Corporation; Notice of Proposed Changes in FERC Gas Tariff

May 1, 2003.

Take notice that on April 28, 2003, Texas Gas Transmission Corporation (Texas Gas) tendered for filing, as part of its FERC Gas Tariff, First Revised Volume No. 1, the revised tariff sheets listed in Appendix A to the filing, with a effective date of June 1, 2003.

Pursuant to the Approved Settlement in Docket No. RP00-260-000, et al., Texas Gas is filing to implement the required unit rate reductions, effective June 1, 2003, resulting from the termination of the NGPL X-129 firm transportation agreement.

Texas Gas states that the tariff sheets reflect the unit rate reduction to: NNS and FT demand rates of $0.0066; STF peak demand rate of $0.0099; STF off-peak demand rate of $0.0043; SNS up to 1/16 hourly flow demand rate of $0.0066; SNS greater than 1/16 up to 1/12 hourly flow hourly overrun rate of $0.0088; SNS greater than 1/12 hourly flow hourly overrun rate of $0.0132; NNS, FT, STF and SNS commodity rates of $0.0001; IT peak commodity rate of $0.0100; IT off-peak commodity rate of $0.0044; and SGT rate of $0.0133. Additionally, Texas Gas proposes to remove language from Section 18 of its General Terms and Conditions (GTC) governing Availability of Third-Party Pipeline Capacity as a result of the abandonment of the NGPL X-129 firm transportation agreement.

Texas Gas states that copies of this filing have been served upon all of Texas Gas's jurisdictional customers, interested state commissions, and the Commission Staff.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11387 Filed 5-6-03; 8:45 am]

BILLING CODE 6717-01-P